FEDERAL TRADE COMMISSION

16 CFR Part 460

Labeling and Advertising of Home Insulation

AGENCY: Federal Trade Commission (“FTC” or “Commission”).

ACTION: Advance notice of proposed rulemaking; extension of deadline for submission of public comments.

SUMMARY: The FTC is extending the deadline for filing public comments on its recent Advance Notice of Proposed Rulemaking for the “Trade Regulation Rule Concerning the Labeling and Advertising of Home Insulation” (the “R-value Rule” or “Rule”).

DATES: The comment period for the advance notice of proposed rulemaking published April 6, 2016 (81 FR 19936), is extended. Comments must be received on or before September 6, 2016.

ADDRESSES: Interested parties may file a comment online or on paper, by following the instructions in the Request for Comment part of the SUPPLEMENTARY INFORMATION section below. Write “16 CFR part 460—R-value Rule Review, File No. R811001” on your comment, and file your comment online at https://ftcpublic.commentworks.com/ftc/rvaluerule, by following the instructions on the web-based form. If you prefer to file your comment on paper, mail your comment to the following address: Federal Trade Commission, Office of the Secretary, 600 Pennsylvania Avenue NW., Suite CC-5610 (Annex B), Washington, DC 20580, or deliver your comment to the following address: Federal Trade Commission, Office of the Secretary, Constitution Center, 400 7th St. SW., 5th Floor, Suite 5610 (Annex B), Washington, DC 20024.

FOR FURTHER INFORMATION CONTACT: Hampton Newsome, (202) 326-2889, Attorney, Division of Enforcement, Bureau of Consumer Protection, Federal Trade Commission, 600 Pennsylvania Avenue NW., Washington, DC 20580.

SUPPLEMENTARY INFORMATION:

I. Comment Period Extension

On April 6, 2016 (81 FR 19936), as part of the Commission's systematic review of its rules and guides, the FTC published an Advance Notice of Proposed Rulemaking (ANPR) in the Federal Register requesting public comments on the R-value Rule. The ANPR set June 6, 2016 as the deadline for filing comments. On May 12, 2016, the American Chemistry Council's (ACC) Center for the Polyurethanes Industry and Spray Foam Coalition requested a 90-day extension to the comment period. ACC represents manufacturers of various types of home insulation products, including spray polyurethane foam (SPF) and rigid polyurethane foam board insulation. The requesters explained that the insulation industry and certain insulation products have changed substantially since the Commission completed its last regulatory review in 2005. In particular, new industry research has become available on the short-term and long-term thermal performance of SPF products. ACC also noted that new research exists about the energy efficiency benefits of insulation products that combine air sealing with high thermal resistance properties. Accordingly, it asserted that additional time is necessary for companies and industry trade organizations to present this new information in a useful manner through comments.

Given the complexity and range of issues raised in the ANPR, the Commission agrees that allowing additional time for filing comments would help facilitate the creation of a more complete record. Moreover, this extension would not harm consumers because the current Rule will remain in effect during the review process. The Commission agrees that extending the comment period to allow interested parties adequate time to address issues raised by the ANPR will facilitate a more complete record. Therefore, the Commission has decided to extend the comment period to September 6, 2016.

II. Request for Comment

You can file a comment online or on paper. For the Commission to consider your comment, we must receive it on or before September 6, 2016. Write “16 CFR part 460—R-value Rule Review, File No. R811001” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, such as medical records or other individually identifiable health information. In addition, do not include any “[t]rade secret or any commercial or financial information which is . . . privileged or confidential,” as discussed in section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you must follow the procedure explained in FTC Rule 4.9(c), 16 CFR 4.9(c).¹ Your comment will be kept confidential only if the FTC General Counsel grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/rvaluerule, by following the instruction on the web-based form. If this Notice appears at http://www.regulations.gov, you also may file a comment through that Web site.

If you prefer to file your comment on paper, mail your comment to the following address: Federal Trade Commission, Office of the Secretary, 600 Pennsylvania Avenue NW., Suite CC-5610 (Annex B), Washington, DC 20580, or deliver your comment to the following address: Federal Trade Commission, Office of the Secretary, Constitution Center, 400 7th Street SW., 5th Floor, Suite 5610 (Annex B), Washington, DC 20024. If possible, submit your paper comment to the Commission by courier or overnight service.

Visit the Commission Web site at http://www.ftc.gov to read this ANPR and the news release describing it. The FTC Act and other laws that the Commission administers permit the collection of public comments to consider and use in this proceeding, as appropriate. The Commission will consider all timely and responsive public comments that it receives on or before September 6, 2016. You can find more information, including routine uses permitted by the Privacy Act, in the Commission's privacy policy, at http://www.ftc.gov/ftc/privacy.htm.

By direction of the Commission.
Donald S. Clark,
Secretary.

[FR Doc. 2016-13097 Filed 6-2-16; 8:45 am]

BILLING CODE 6750-01-P